DEPARTMENT OF VETERANS AFFAIRS

Annual Determination of Staffing Shortages

AGENCY: Department of Veterans Affairs.

ACTION: Notice.

SUMMARY: Section 7412 of title 38, United States Code (U.S.C.) requires the Department of Veterans Affairs (VA) Inspector General (IG) to determine and report on the five occupations of personnel of title 38 of the Department covered under 38 U.S.C. 7401 for which there are the largest staffing shortages throughout the Department as calculated over the five-year period preceding the determination. The Secretary is required to publish these findings in the Federal Register. Based on its review, the IG identified the following five occupations as having the largest staffing shortages in the identified time period: Medical Officer, Nurse, Physician Assistant, Physician Therapist, and Psychologist. Additional information and analysis can be found at: www.va.gov/OIG.

FOR FURTHER INFORMATION CONTACT: Karen Rasmussen, Management Review Service (10AR), Veterans Health Administration, 810 Vermont Avenue NW., Washington, DC 20420 Telephone: (202) 461-6643. (This is not a toll-free number.)

Signing Authority

The Secretary of Veterans Affairs, or designee, approved this document and authorized the undersigned to sign and submit the document to the Office of the Federal Register for publication electronically as an official document of the Department of Veterans Affairs. Jose D. Riojas, Chief of Staff, Department of Veterans Affairs, approved this document on January 30, 2015, for publication.

Dated: January 30, 2015.
Michael P. Shores,
Chief Impact Analyst, Office of Regulation Policy & Management, Office of the General Counsel, Department of Veterans Affairs.

[FR Doc. 2015-02229 Filed 2-3-15; 8:45 am]

BILLING CODE 8320-01-P